DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis (BEA), Department of Commerce.

Title: Annual Survey of Foreign Ocean Carriers' Expenses in the United States.

OMB Control Number: 0608-0012.

Form Number: BE-29.

Type of Request: Regular submission.

Number of Responses: 80 annually (70 reporting mandatory data, and 10 that would file exemption claims).

Average Hours per Response: 3 hours is the average for those reporting data and one hour is the average for those filing an exemption, but hours may vary considerably among respondents because of differences in the volume and complexity of information on the foreign ocean carriers represented by the reporter.

Estimated Total Annual Burden Hours: 220.

Needs and Uses: The Annual Survey of Foreign Ocean Carriers' Expenses in the United States (BE-29) is a survey that collects data from U.S. agents of foreign ocean carriers who handle 40 or more foreign ocean port calls in the reporting period, or report total covered expenses of $250,000 or more in the reporting period for all foreign ocean vessels handled by the U.S. agent. The covered expenses are: (1) Port call services such as pilotage, towing and tugboat services, harbor fees, and berth fees; (2) cargo-related services such as loading, unloading, and storing cargo at U.S. ports; (3) fuels and oils (bunkers) purchased in U.S. ports; (4) other vessel operating expenses such as stores and supplies, vessel repairs, and personnel expenses in the United States; and (5) other expenses such as U.S. agents' and brokers' fees and commissions and expenses related to maintaining U.S. offices, such as rent, advertising, and wages.

The data collected on the survey are needed to monitor U.S. trade in transport services, to analyze the impact of these cross-border services on the U.S. and foreign economies, to compile and improve the U.S. economic accounts, to support U.S. commercial policy on trade in transport services, to conduct trade promotion, and to improve the ability of U.S. businesses to identify and evaluate market opportunities. The data are used in estimating the transport component of the U.S. international transactions accounts (ITAs) and national income and product accounts (NIPAs).

The Bureau of Economic Analysis (BEA) is not making any modifications to the current BE-29 survey. The effort to keep current reporting requirements unchanged is intended to minimize respondent burden while considering the needs of data users. Existing language in the instructions and definitions will be reviewed and adjusted as necessary to clarify survey requirements.

Affected Public: Businesses or other for-profit organizations.

Frequency: Annual.

Respondent's Obligation: Mandatory.

OMB Desk Officer: Robert Sivinski, (202) 395-1205.

This information collection request may be viewed at reginfo.gov http://www.reginfo.gov/public/. Follow the instructions to view Department of Commerce collections currently under review by OMB.

Written comments and recommendations for the proposed information collection should be sent within 30 days of publication of this notice to OIRA_Submission@omb.eop.gov.

Sheleen Dumas,
Department Lead PRA Officer, Office of the Chief Information Officer.

[FR Doc. 2018-20786 Filed 9-24-18; 8:45 am]

BILLING CODE 3510-06-P